NEIGHBORHOOD REINVESTMENT CORPORATION

Corporate Administration Committee Board of Directors; Sunshine Act Meeting

TIME AND DATE: 1 p.m., Thursday, March 8, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session

III. Severance Policy

IV. Board Committee Composition/Elections/Appointments

V. Washington, DC Lease Update

VI. Human Resources Updates

VII. Benefit Activities

VIII. Strategic Planning Update

IX. Adjournment

Erica Hall,
Assistant Corporate Secretary.

[FR Doc. 2012-4908 Filed 2-27-12; 11:15 am]

BILLING CODE 7570-02-P